DEPARTMENT OF COMMERCE

International Trade Administration

[A-475-818]

Certain Pasta From Italy: Final Results of Antidumping Duty Administrative Review; 2013-2014

AGENCY: Enforcement and Compliance, International Trade Administration, Department of Commerce.

SUMMARY: On August 7, 2015, the Department of Commerce (the Department) published the preliminary results of the antidumping duty administrative review of certain pasta (pasta) from Italy and gave interested parties an opportunity to comment on the Preliminary Results.¹

¹ See Certain Pasta From Italy: Preliminary Results of Antidumping Duty Administrative Review; 2013-2014, 80 FR 47467 (August 7, 2015) (Preliminary Results), and accompanying Preliminary Decision Memorandum.

The period of review (POR) is July 1, 2013, through June 30, 2014. As a result of our analysis of the comments and information received, these final results differ from the Preliminary Results with respect to Rummo S.p.A. Molino e Pastificio (the Rummo Group).² For the final weighted-average dumping margins, see the “Final Results of Review” section below.

² The Rummo Group consists of Rummo S.p.A., Lenta Lavorazione, Pasta Castiglioni, and Rummo S.p.A. Molino e Pastificio. In this review, we found that the facts have not changed with respect to Rummo and its affiliates and therefore, we followed the same methodology as we did in the most recent completed review (AR 17) by collapsing the affiliated companies as the Rummo Group. See Certain Pasta From Italy: Notice of Final Results of 17th Antidumping Duty Administrative Review; 2012-2013, 80 FR 8604 (February 18, 2015) (AR 17 Final Results).

DATES: Effective: February 17, 2016.

FOR FURTHER INFORMATION CONTACT: Joy Zhang (La Molisana) or George McMahon (the Rummo Group), AD/CVD Operations, Office III, Enforcement and Compliance, International Trade Administration, U.S. Department of Commerce, 14th Street and Constitution Avenue NW., Washington, DC 20230; telephone: (202) 482-1168 or (202) 482-1167, respectively.

SUPPLEMENTARY INFORMATION:

Background

On August 7, 2015, the Department of Commerce (the Department) published the Preliminary Results. In accordance with 19 CFR 351.309(c)(1)(ii), we invited parties to comment on our Preliminary Results. On August 10, 2015, La Molisana submitted a request for a hearing, which was withdrawn on October 27, 2015.³ On October 5, 2015, Petitioners, La Molisana S.p.A. (La Molisana) ⁴ and the Rummo Group submitted their case briefs. October 9, 2015, the Department revised the briefing schedule.⁵ On October 15, 2015, Petitioners, La Molisana and the Rummo Group submitted their rebuttal briefs. As explained in the memorandum from the Acting Assistant Secretary for Enforcement and Compliance, the Department has exercised its discretion to toll all administrative deadlines due to the recent closure of the Federal Government. All deadlines in this segment of the proceeding have been extended by four business days. The revised deadline for the final results of this review is now February 9, 2016.⁶

³ Rummo filed a request for a hearing on September 9, 2015, which the Department rejected on September 9, 2015, as being untimely filed.

⁴ On October 6, 2015, La Molisana submitted a correction to an item stated in its October 5, 2015 case brief.

⁵ The Department also postponed the briefing schedule in several Memoranda to All Interested Parties, dated August 12, 2015, September 8, 2015, September 11, 2015, and September 28, 2015.

⁶ See Memorandum to the Record from Ron Lorentzen, Acting Assistant Secretary for Enforcement & Compliance, regarding “Tolling of Administrative Deadlines As a Result of the Government Closure During Snowstorm Jonas,” dated January 27, 2016.

Scope of the Order

Imports covered by the order are shipments of certain non-egg dry pasta. The merchandise subject to review is currently classifiable under items 1901.90.90.95 and 1902.19.20 of the Harmonized Tariff Schedule of the United States (HTSUS). Although the HTSUS subheadings are provided for convenience and customs purposes, the written description of the merchandise subject to the order is dispositive.⁷

⁷ For a full description of the scope of the order, see the “Issues and Decision Memorandum for the Final Results of Antidumping Duty Administrative Review and Partial Rescission: Certain Pasta from Italy; 2013-2014” from Christian Marsh, Deputy Assistant Secretary for Antidumping and Countervailing Duty Operations, to Paul Piquado, Assistant Secretary for Enforcement and Compliance, dated concurrently with this notice (Issues and Decision Memorandum) and incorporated herein by reference.

Analysis of Comments Received

All issues raised in the case and rebuttal briefs by parties to this administrative review are addressed in the Issues and Decision Memorandum. A list of the issues that parties raised and to which we responded is attached to this notice as Appendix. The Issues and Decision Memorandum is a public document and is on-file electronically via Enforcement and Compliance's Antidumping and Countervailing Duty Centralized Electronic Service System (ACCESS). ACCESS is available to registered users at http://access.trade.gov and in the Central Records Unit (CRU), room B8024 of the main Department of Commerce building. In addition, a complete version of the Issues and Decision Memorandum can be accessed directly on the Internet at http://enforcement.trade.gov/frn/index.html. The signed Issues and Decision Memorandum and the electronic versions of the Issues and Decision Memorandum are identical in content.

Changes Since the Preliminary Results

Based on a review of the record and comments received from interested parties regarding our Preliminary Results, we have recalculated La Molisana's and the Rummo Group's weighted-average dumping margins. However, La Molisana's adjustments did not affect the calculated final margin.⁸ As a result of the aforementioned recalculation of the Rummo Group's rate, the weighted-average dumping margin for the two non-selected companies has changed.

⁸ See Issues and Decision Memorandum; see also Memorandum to the File, Through Eric B. Greynolds, Program Manager, Office III, from Joy Zhang, Case Analyst, Office III, titled “Certain Pasta from Italy: Calculation Memorandum—La Molisana,” dated February 9, 2016, and Memorandum to the File, Through Eric B. Greynolds, Program Manager, Office III, from George McMahon, Case Analyst, Office III, titled “Certain Pasta from Italy: Calculation Memorandum—the Rummo Group,” dated February 9, 2016.

Final Results of the Review

As a result of this review, the Department determines the following weighted-average dumping margins ⁹ for the period July 1, 2013, through June 30, 2014:

⁹ The margin for the non-examined companies was based on the calculated weighted-average margin of La Molisana (the sole mandatory respondent receiving an above de minimis margin in these final results).

Producer and/or exporter | Weighted-average dumping margin (percent)
La Molisana S.p.A. | 12.90
Rummo S.p.A., Lenta Lavorazione, Pasta Castiglioni, and Rummo S.p.A. Molino e Pastificio (collectively, the Rummo Group) | 0.00
Pastificio Andalini S.p.A. | 12.90
Delverde Industrie Alimentari S.p.A. | 12.90

Duty Assessment

The Department shall determine and Customs and Border Protection (CBP) shall assess antidumping duties on all appropriate entries.¹⁰ For any individually examined respondents whose weighted-average dumping margin is above de minimis, we calculated importer-specific ad valorem duty assessment rates based on the ratio of the total amount of dumping calculated for the importer's examined sales to the total entered value of those same sales in accordance with 19 CFR 351.212(b)(1). Upon issuance of the final results of this administrative review, if any importer-specific assessment rates calculated in the final results are above de minimis (i.e., at or above 0.5 percent), the Department will issue instructions directly to CBP to assess antidumping duties on appropriate entries.

¹⁰ In these final results, the Department applied the assessment rate calculation method adopted in Antidumping Proceedings: Calculation of the Weighted-Average Dumping Margin and Assessment Rate in Certain Antidumping Proceedings: Final Modification, 77 FR 8101 (February 14, 2012).

We intend to issue assessment instructions directly to CBP 15 days after publication of the final results of this review.

Cash Deposit Requirements

The following cash deposit requirements will be effective upon publication of the notice of final results of administrative review for all shipments of subject merchandise entered, or withdrawn from warehouse, for consumption on or after the publication of the final results of this administrative review, as provided by section 751(a)(2) of the Act: (1) The cash deposit rate for respondents noted above will be the rate established in the final results of this administrative review; (2) for merchandise exported by manufacturers or exporters not covered in this administrative review but covered in a prior segment of the proceeding, the cash deposit rate will continue to be the company specific rate published for the most recently completed segment of this proceeding; (3) if the exporter is not a firm covered in this review, a prior review, or the original investigation, but the manufacturer is, the cash deposit rate will be the rate established for the most recently completed segment of this proceeding for the manufacturer of the subject merchandise; and (4) the cash deposit rate for all other manufacturers or exporters will continue to be 15.45 percent, the all-others rate established in the antidumping investigation as modified by the section 129 determination. These cash deposit requirements, when imposed, shall remain in effect until further notice.

Notification to Importers Regarding the Reimbursement of Duties

This notice also serves as a final reminder to importers of their responsibility under 19 CFR 351.402(f) to file a certificate regarding the reimbursement of antidumping and/or countervailing duties prior to liquidation of the relevant entries during the POR. Failure to comply with this requirement could result in the Department's presumption that reimbursement of antidumping and/or countervailing duties occurred and the subsequent assessment of doubled antidumping duties.

Administrative Protective Order

This notice also serves as a reminder to parties subject to administrative protective orders (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

We are issuing and publishing this notice in accordance with sections 751(a)(1) and 777(i)(1) of the Act and 19 CFR 351.213(h).

Dated: February 9, 2016.
Paul Piquado,
Assistant Secretary for Enforcement and Compliance.

Appendix

List of Topics Discussed in the Final Issues and Decision Memorandum

Summary

I. Background

Scope of the Order

II. List of Comments

III. Analysis of Comments

La Molisana

Comment 1: Pasta Shape

Comment 2: General and Administrative (G&A) Ratio

Comment 3: Indirect Selling Expenses

Comment 4: Direct Materials Calculation

Comment 5: Direct Selling Expenses

Comment 6: Applying Differential Pricing Analysis

The Rummo Group

Comment 7: Treatment of Pasta Castiglioni's Home Market Control Numbers

Comment 8: Treatment of Matching U.S. Sales with Home Market Sales

Comment 9: Treatment of the Manufacturers, Rummo and Pasta Castiglioni

Comment 10: Treatment of the Rummo Group's Freight Revenue

Comment 11: Application of a Cap for Certain U.S. Market Freight Revenue (FRTREVU)

Comment 12: Application of a Countervailing Duty Offset (CVDU) to Rummo

Comment 13: Treatment of Negative Margins Associated with the Differential Pricing (DP) Methodology

IV. Recommendation

[FR Doc. 2016-03252 Filed 2-16-16; 8:45 am]

BILLING CODE 3510-DS-P